DEPARTMENT OF VETERANS AFFAIRS

Special Medical Advisory Group; Notice of Meeting

As required by the Federal Advisory Committee Act, the VA hereby gives notice that the Special Medical Advisory Group has scheduled a meeting on April 5, 2000. The meeting will convene at 8:30 am and end at 2 pm. The meeting will be held in Room 830 at VA Central Office, 810 Vermont Avenue, NW, Washington, DC. The purpose of the meeting is to advise the Secretary and Under Secretary for Health relative to the care and treatment of disabled veterans, and other matters pertinent to the Department's Veterans Health Administration (VHA).

The agenda for the meeting will include discussion of Patient Safety Program, Capital Asset Realignment for Enhanced Services (CARES) Program, VISN 12 Options Study, National Formulary Process, Office of Research Compliance and Assurance, and an update on the service line implementation.

All sessions will be open to the public up to the seating capacity of the meeting room. Those wishing to attend should contact Celestine Brockington, Office of the Under Secretary for Health, Department of Veterans Affairs. Her phone number is 202.273.5878.

Dated: March 16, 2000.
By direction of the Secretary of Veterans Affairs.
Marvin R. Eason,
Committee Management Officer.

[FR Doc. 00-7357 Filed 3-24-00; 8:45 am]

BILLING CODE 8320-01-M